DEPARTMENT OF STATE

[Delegation of Authority No.492]

Delegation of the Authority To Submit to the Congress Certain Notifications and Explanations Relating to the Voluntary Offer Agreement

By virtue of the authority vested in the Secretary of State, including Section 1 of the State Department Basic Authorities Act, as amended (22 U.S.C. 2651a) and the Presidential Memorandum dated September 2, 2020, relating to Section 1 of the July 2, 1980, Senate Resolution of Advice and Consent to Ratification of the Agreement between the United States of America and the International Atomic Energy Agency for the Application of Safeguards in the United States of America, with attached Protocol, signed at Vienna on November 18, 1977 (the “Voluntary Offer Agreement”), I hereby delegate to the Assistant Secretary for International Security and Nonproliferation, to the extent authorized by law, the authority to provide to the Congress the notifications and explanations specified in Section 1 of the Senate's Resolution of Advice and Consent to Ratification of the Voluntary Offer Agreement.

Any act, executive order, regulation, or procedure subject to, or affected by, this delegation shall be deemed to be such act, executive order, regulation, or procedure as amended from time to time. The Secretary, the Deputy Secretary, and the Under Secretary for Arms Control and International Security may at any time exercise any authority or function delegated by this delegation of authority.

This delegation of authority does not amend, supersede, or affect the validity of any other delegation of authority dealing with submission of reports to the Congress. This delegation of authority shall be published in the Federal Register.

Dated: November 3, 2020.
Michael R. Pompeo,
Secretary of State.

[FR Doc. 2020-26540 Filed 12-1-20; 8:45 am]

BILLING CODE 4710-27- P